DEPARTMENT OF DEFENSE

Department of the Navy

Privacy Act of 1974; System of Records

AGENCY: Department of the Navy, DoD.

ACTION: Notice to amend systems of records.

SUMMARY: The Department of the Navy is amending three systems of records notices in its existing inventory of records systems subject to the Privacy Act of 1974, (5 U.S.C. 552a), as amended.

DATES: This proposed action will be effective without further notice on February 4, 2004 unless comments are received which result in a contrary determination.

ADDRESSES: Send comments to Department of the Navy, PA/FOIA Policy Branch, Chief of Naval Operations, N09B10, 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The Department of the Navy proposes to amend a system of records notice in its inventory of record systems subject to the Privacy Act of 1974 (5 U.S.C. 552a), as amended. The changes to the system of records are not within the purview of subsection (r) of the Privacy Act of 1974 (5 U.S.C. 552a), as amended, which requires the submission of new or altered systems reports. The records system being amended is set forth below, as amended, published in its entirety.

SUPPLEMENTARY INFORMATION: The Department of the Navy systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: December 24, 2003.
L.M. Bynum,
Alternate OSD Federal Register Liaison Officer, Department of Defense.

N05211-1

System name:

Privacy Act Request Files and Tracking System (May 9, 2003, 68 FR 24959).

Changes:

System identifier:

Delete entry and replace with ‘NM05211-1’.

* * * * *

System location:

Delete first paragraph and replace first with ‘Organizational elements of the Department of the Navy. Official mailing addresses are published in the Standard Navy Distribution List (SNDL) that is available at http://neds.nebt.daps.mil/sndl.’

* * * * *

Authority for maintenance of the system:

Delete entry and replace with ‘5 U.S.C. 552a, The Privacy Act of 1974, as amended; 10 U.S.C. 5013, Secretary of the Navy; 10 U.S.C. 5041, Headquarters, Marine Corps; E.O. 9397 (SSN); Secretary of the Navy Instruction 5211.5D, Department of the Navy Privacy Act Program.’

* * * * *

Contesting record procedures:

Delete entry and replace with ‘The Department of the Navy's rules for accessing records, and for contesting contents and appealing initial agency determinations are published in Secretary of the Navy Instruction 5211.5; 32 CFR part 701; or may be obtained from the system manager.’

* * * * *

NM05211-1

System name:

Privacy Act Request Files and Tracking System.

System location:

Organizational elements of the Department of the Navy. Official mailing addresses are published in the Standard Navy Distribution List (SNDL) that is available at http://neds.nebt.daps.mil/sndl.

Commander, U.S. Joint Forces Command, 1562 Mitscher Avenue, Suite 200, Norfolk, VA 23551-2488.

Commander, U.S. Pacific Command, P.O. Box 64028, Camp H.M. Smith, HI 96861-4028.

Categories of individuals covered by the system:

Individuals who request information concerning themselves which is in the custody of the Department of the Navy or who request access to or amendment of such records in accordance with the Privacy Act of 1974, as amended.

Categories of records in the system:

Letters, memoranda, legal opinions, messages, and miscellaneous documents relating to an individual's request for access to or amendment of records concerning that person, including letters authorizing release to another individual, letters of denial, appeals, statements of disagreements, and related documents accumulated in processing requests received under the Privacy Act of 1974. Names, addresses, and other personal identifiers of the individual requester. Database which tracks action from start to finish.

Authority for maintenance of the system:

5 U.S.C. 552a, The Privacy Act of 1974, as amended; 10 U.S.C. 5013, Secretary of the Navy; 10 U.S.C. 5041, Headquarters, Marine Corps; E.O. 9397 (SSN); Secretary of the Navy Instruction 5211.5D, Department of the Navy Privacy Act Program.

Purpose(s):

To track, process, and coordinate individual requests for access and amendment of personal records; to process appeals on denials of requests for access or amendment to personal records; to compile information for reports, and to ensure timely response to requesters.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Navy's compilation of systems of records notices also apply to this system.

Policies and practices for storing, retrieving, accessing, retaining, and disposing of records in the system:

Storage:

Maintained in file folders, microform, microfilm, manual/computerized databases, and/or optical disk.

Retrievability:

Name of requester; year request filed; serial number of response letter; case file number; etc.

Safeguards:

Records are accessed by custodian of the record system and by persons responsible for servicing the record system in performance of their official duties. Records are stored in locked cabinets or rooms. Computerized databases are password protected and accessed by individuals who have a need to know.

Retention and disposal:

Granted requests, responses to requests for non-existent records, responses to requesters who provide inadequate descriptions and responses to requesters who fail to pay agency reproduction fees that are not appealed are destroyed 2 years after date of reply; requests which are denied and are appealed are destroyed after 5 years; requests which are amended are retained for 4 years; requests for amendment which are refused are destroyed after 3 years; disclosure accounting forms are retained for the life of the record of 5 years after the disclosure, whichever is later; and privacy act databases are destroyed after 5 years.

System manager(s) and address:

Policy Official: Chief of Naval Operations (N09B10), 2000 Navy Pentagon, Washington, DC 20350-2000.

Record Holders:

Organizational elements of the Department of the Navy. Official mailing addresses are published in the Standard Navy Distribution List (SNDL) that is available at http://neds.nebt.daps.mil/sndl.

Commander, U.S. Joint Forces Command, 1562 Mitscher Avenue, Suite 200, Norfolk, VA 23551-2488; and

Commander, U.S. Pacific Command, P.O. Box 64028, Camp H.M. Smith, HI 96861-4028. Official mailing addresses are published as an appendix to the Navy's compilation of systems of records notices.

Notification procedure:

Individuals seeking to determine whether information about themselves is contained in this system should address written inquiries to the commanding officer of the activity in question. Official mailing addresses are published in the Standard Navy Distribution List (SNDL) that is available at http://neds.nebt.daps.mil/sndl.

The request must be signed and contain the full name of the individual and one or more of the following kinds of information: Year request filed; serial number of response letter; case file number.

Record access procedures:

Individuals seeking access to information about themselves contained in this system should address written inquiries to the commanding officer of the activity in question. Official mailing addresses are published in the Standard Navy Distribution List (SNDL) that is available at http://neds.nebt.daps.mil/sndl.

The request must be signed and contain the full name of the individual and one or more of the following kinds of information: Year request filed; serial number of response letter; case file number.

Contesting record procedures:

The Department of the Navy's rules for accessing records, and for contesting contents and appealing initial agency determinations are published in Secretary of the Navy Instruction 5211.5; 32 CFR part 701; or may be obtained from the system manager.

Record source categories:

From the individual, Navy organizations, Department of Defense components, and other Federal, State, and local government agencies.

Exemptions claimed for the system:

During the course of a Privacy Act (PA) action, exempt materials from other systems of records may become part of the case records in this system of records. To the extent that copies of exempt records from those ‘other’ systems of records are entered into these PA case records, the Department of the Navy hereby claims the same exemptions for the records as they have in the original primary systems of records of which they are a part.

Department of the Navy exemption rules have been promulgated in accordance with requirements of 5 U.S.C. 553(b)(1), (2), and (3), (c) and (e) published in 32 CFR part 701, Subpart G. For additional information contact the system manager.

N05380-1

System name:

Combined Federal Campaign/Navy Relief Society (May 9, 2003, 68 FR 24959).

Changes:

System identifier:

Delete entry and replace with ‘NM05380-1’.

System name:

Delete entry and replace with ‘Combined Federal Campaign/Navy and Marine Corps Relief Society’.

System location:

Delete first paragraph and replace with ‘Organizational elements of the Department of the Navy. Official mailing addresses are published in the Standard Navy Distribution List (SNDL) that is available at http://neds.nebt.daps.mil/sndl.’

* * * * *

Authority for maintenance of the system:

Delete entry and replace with ‘10 U.S.C. 5013, Secretary of the Navy; 10 U.S.C. 5041, Headquarters, Marine Corps; and, E.O.s 9397 (SSN), 10927 and 12353’.

Purpose(s):

Delete entry and replace with ‘To manage the Combined Federal Campaign and Navy and Marine Corps Relief Society Fund drives and provide the respective campaign coordinator with necessary information. Payroll deduction contribution data is supplied to the Defense Finance and Accounting Service.’

* * * * *

NM05380-1

System name:

Combined Federal Campaign/Navy and Marine Corps Relief Society.

System location:

Organizational elements of the Department of the Navy. Official mailing addresses are published in the Standard Navy Distribution List (SNDL) that is available at http://neds.nebt.daps.mil/sndl.

Commander, U.S. Joint Forces Command, 1562 Mitscher Avenue, Suite 200, Norfolk, VA 23551-2488.

Commander, U.S. Pacific Command, P.O. Box 64028, Camp H.M. Smith, HI 96861-4028.

Categories of individuals covered by the system:

All assigned personnel.

Categories of records in the system:

Names, addresses, Social Security Numbers, payroll identifying data, contributor cards and lists.

Authority for maintenance of the system:

10 U.S.C. 5013, Secretary of the Navy; 10 U.S.C. 5041, Headquarters, Marine Corps; and, E.O.s 9397 (SSN), 10927 and 12353.

Purpose(s):

To manage the Combined Federal Campaign and Navy and Marine Corps Relief Society Fund drives and provide the respective campaign coordinator with necessary information. Payroll deduction contribution data is supplied to the Defense Finance and Accounting Service.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Manual and computerized records.

Retrievability:

Name, Social Security Number, and organization.

Safeguards:

Access is provided on need-to-know basis only. Manual records are maintained in file cabinets under the control of authorized personnel during working hours. The office space in which the file cabinets are located is locked outside of official working hours. Computer terminals are located in supervised areas. Access to computerized data is controlled by password or other user code system.

Retention and disposal:

Records are maintained for one year or completion of next equivalent campaign and then destroyed.

System manager(s) and address:

Commanding officer of the activity in question. Official mailing addresses are published in the Standard Navy Distribution List (SNDL) that is available at http://neds.nebt.daps.mil/sndl.

Notification procedure:

Individuals seeking to determine whether this system of records contains information about themselves should address written inquiries to the commanding officer of the naval activity where currently or previously employed. Official mailing addresses are published in the Standard Navy Distribution List (SNDL) that is available at http://neds.nebt.daps.mil/sndl.

The request should include full name, Social Security Number, address of the individual concerned, and should be signed.

Record access procedures:

Individuals seeking access to records about themselves contained in this system of records should address written inquiries to the commanding officer of the naval activity where currently or previously employed. Official mailing addresses are published in the Standard Navy Distribution List (SNDL) that is available at http://neds.nebt.daps.mil/sndl.

The request should include full name, Social Security Number, address of the individual concerned, and should be signed.

Contesting record procedures:

The Department of the Navy's rules for accessing records, and for contesting contents and appealing initial agency determinations are published in Secretary of the Navy Instruction 5211.5; 32 CFR part 701; or may be obtained from the system manager.

Record source categories:

Individual; payroll files; personnel files.

Exemptions claimed for the system:

None.

N05720-1

System name:

FOIA Request Files and Tracking System (April 13, 2001, 66 FR 19158).

Changes:

System identifier:

Delete entry and replace with ‘NM05720-1’.

* * * * *

System location:

Delete entry and replace with ‘Organizational elements of the Department of the Navy. Official mailing addresses are published in the Standard Navy Distribution List (SNDL) that is available at http://neds.nebt.daps.mil/sndl.’

* * * * *

Authority for maintenance of the system:

Delete entry and replace with ‘5 U.S.C. 552, the Freedom of Information Act, as amended; 10 U.S.C. 5013, Secretary of the Navy; 10 U.S.C. 5041, Headquarters, Marine Corps; E.O. 9397 (SSN); and Secretary of the Navy Instruction 5720.42F, Department of the Navy Freedom of Information Act Program.’

* * * * *

NM05720-1

System name:

FOIA Request Files and Tracking System.

System location:

Organizational elements of the Department of the Navy. Official mailing addresses are published in the Standard Navy Distribution List (SNDL) that is available at http://neds.nebt.daps.mil/sndl.

Categories of individuals covered by the system:

Individuals who request access to information under the provisions of the Freedom of Information Act (FOIA) or make an appeal under the FOIA.

Categories of records in the system:

FOIA request, copies of responsive records (redacted and released), correspondence generated as a result of the request, cost forms, memoranda, legal opinions, messages, and miscellaneous documents which related to the request.

Database used to track requests from start to finish and formulate response letters may contain names, addresses, and other personal identifiers of the individual requester.

Authority for maintenance of the system:

5 U.S.C. 552, the Freedom of Information Act, as amended; 10 U.S.C. 5013, Secretary of the Navy; 10 U.S.C. 5041, Headquarters, Marine Corps; E.O. 9397 (SSN); and Secretary of the Navy Instruction 5720.42F, Department of the Navy Freedom of Information Act Program.

Purpose(s):

To track, process, and coordinate requests/appeals/litigation made under the provisions of the FOIA.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To individuals who file FOIA requests for access to information on who has made FOIA requests and/or what is being requested under FOIA.

The DoD ‘Blanket Routine Uses’ set forth at the beginning of the Navy's compilation of systems of records notices also apply to this system.

Policies and practices for storing, retrieving, accessing, retaining, and disposing of records in the system:

Storage:

Maintained in file folders, microform, microfilm, manual/computerized databases, and/or optical disk.

Retrievability:

Name of requester; year request filed; serial number of response letter; case file number; etc.

Safeguards:

Records are accessed by custodian of the record system and by persons responsible for servicing the record system in performance of their official duties. Records are stored in cabinets or rooms, which are not viewable by individuals who do not have a need to know. Computerized databases are password protected and accessed by individuals who have a need to know.

Retention and disposal:

Granted requests, no record responses, and/or responses to requesters who fail to adequately described the records being sought or fail to state a willingness to pay processing fees are destroyed 2 years after date of reply. Requests which are denied in whole or in part, appealed, or litigated are destroyed 6 years after final action.

System manager(s) and address:

Policy Official: Chief of Naval Operations (N09B10), 2000 Navy Pentagon, Washington, DC 20350-2000.

Record Holders:

Organizational elements of the Department of the Navy. Official mailing addresses are published in the Standard Navy Distribution List (SNDL) that is available at http://neds.nebt.daps.mil/sndl.

Notification procedure:

Individuals seeking to determine whether information about themselves is contained in this system should address written inquiries to the Freedom of Information Act coordinator or commanding officer of the activity in question. Official mailing addresses are published in the Standard Navy Distribution List (SNDL) that is available at http://neds.nebt.daps.mil/sndl.

The request should contain the full name of the individual and one or more of the following kinds of information: year request filed; serial number of response letter; case file number. Requests must also be signed.

Record access procedures:

Individuals seeking access to information about themselves contained in this system should address written inquiries to the Freedom of Information Act coordinator or commanding officer of the activity in question. Official mailing addresses are published in the Standard Navy Distribution List (SNDL) that is available at http://neds.nebt.daps.mil/sndl.

The request should contain the full name of the individual and one or more of the following kinds of information: year request filed; serial number of response letter; case file number. Requests must also be signed.

Contesting record procedures:

The Department of the Navy's rules for accessing records, and for contesting contents and appealing initial agency determinations are published in Secretary of the Navy Instruction 5211.5; 32 CFR part 701; or may be obtained from the system manager.

Record source categories:

From the individual, Navy organizations, Department of Defense components, and other Federal, state, and local government agencies.

Exemptions claimed for the system:

During the course of a FOIA action, exempt materials from other systems of records may in turn become part of the case records in this system. To the extent that copies of exempt records from those ‘other’ systems of records are entered into this FOIA case record, the Department of the Navy hereby claims the same exemptions for the records from those ‘other’ systems that are entered into this system, as claimed for the original primary systems of records which they are a part.

Department of the Navy exemption rules have been promulgated in accordance with requirements of 5 U.S.C. 553(b)(1), (2), and (3), (c) and (e) published in 32 CFR part 701, Subpart G. For additional information contact the system manager.

[FR Doc. 04-26 Filed 1-2-04; 8:45 am]

BILLING CODE 5001-06-U